DEPARTMENT OF COMMERCE

National Oceanic and Atmospheric Administration

50 CFR Part 665

[Docket No. 090218199-91223-02]

RIN 0648-AX38

Fisheries in the Western Pacific; Pelagic Fisheries; Vessel Identification Requirements

AGENCY: National Marine Fisheries Service (NMFS), National Oceanic and Atmospheric Administration (NOAA), Commerce.

ACTION: Final rule.

SUMMARY: This final rule revises identification requirements for U.S. vessels that fish for pelagic management unit species in the western and central Pacific Ocean. Each vessel is required to display its International Telecommunication Union Radio Call Sign (IRCS) or, if an IRCS has not been assigned, its official number preceded by the characters “USA ”. This rule makes Federal vessel identification requirements consistent with international requirements.

DATES: This final rule is effective February 22, 2010.

ADDRESSES: Written comments regarding the burden-hour estimates or other aspects of the collection-of-information requirements contained in this final rule may be submitted to William L. Robinson, NMFS, 1601 Kapiolani Blvd. 1110, Honolulu, HI 96814, e-mailed to David_Rostker@omb.eop.gov, or faxed to 202-395-7285.

FOR FURTHER INFORMATION CONTACT: Jarad Makaiau, Sustainable Fisheries, NMFS PIR, 808-944-2108.

SUPPLEMENTARY INFORMATION: This Federal Register document is also accessible at www.gpoaccess.gov/fr/.

This final rule revises the vessel identification requirements at 50 CFR § 665 to make them consistent with international requirements. Currently, each fishing vessel is required to display its official number (United States Coast Guard documentation or other registration number) on the port and starboard sides of the deckhouse or hull, and on an appropriate weather deck, so as to be visible from enforcement vessels and aircraft.

New international rules require each vessel that fishes on the high seas in the Area of the Convention on the Conservation and Management of Highly Migratory Fish Stocks in the Western and Central Pacific Ocean (Convention) to display its IRCS on the port and starboard sides of the hull or superstructure, and on a deck surface. If an IRCS has not been assigned, the vessel must display its official number preceded by the characters “USA” and a hyphen (i.e., “USA-”).

U.S. vessels fishing for pelagic species on the high seas of the Convention area would be required to display the international vessel markings (IRCS or USA-official number). A pelagic vessel that fishes only within the U.S. Exclusive Economic Zone (EEZ), or on the high seas outside the Convention Area, would have the option to display either the international markings or official number.

On July 17, 2009, NMFS published a proposed rule and request for public comment on the vessel identification requirements (74 FR 34707). The comment period for the proposed rule ended on August 3, 2009, and NMFS did not receive any comments.

This final rule modifies only the manner in which federally-permitted pelagic fishing vessels are identified, and does not change vessel operations or other aspects of pelagic fisheries. Additional background information on this final rule may be found in the preamble to the proposed rule, and is not repeated here.

Changes From the Proposed Rule

NMFS made one administrative clarification to the final rule for consistency with a change implemented by a recent, separately published final rule in which NMFS restructured western Pacific fishing regulations. In that rule, former § 665.21, relating to pelagic fishing permits, was redesignated as § 665.801. This final rule updates the regulatory text to be consistent with the above change.

Classification

The Regional Administrator, Pacific Islands Region, NMFS, determined that this action is necessary for the conservation and management of western and central Pacific high seas pelagic fisheries, and that it is consistent with the Magnuson-Stevens Fishery Conservation and Management Act and other applicable laws.

This final rule has been determined to be not significant for purposes of Executive Order 12866.

The Chief Council for Regulation of the Department of Commerce certified to the Chief Council for Advocacy of the Small Business Administration during the proposed rule stage that this action would not have a significant economic impact on a substantial number of small entities. The factual basis for the certification was published in the proposed rule and is not repeated here. No comments were received regarding this certification. As a result, a regulatory flexibility analysis was not required and none was prepared.

This final rule contains a collection-of-information requirement subject to the Paperwork Reduction Act (PRA), and which has been approved by the Office of Management and Budget (OMB) under control number 0648-0360. The one-time public reporting burden for vessel identification requirements is estimated at 45 minutes and $100 in supplies per vessel. This includes the time for reviewing instructions, searching existing data sources, gathering and maintaining the data needed, and completing and reviewing the collection of information. Send comments regarding this burden estimate, or any other aspect of this data collection, including suggestions for reducing the burden, to William L. Robinson (see ADDRESSES) and by e-mail to David_Rostker@omb.eop.gov, or fax to 202-395-7285.

Notwithstanding any other provision of the law, no person is required to respond to, and no person shall be subject to penalty for failure to comply with, a collection of information subject to the requirements of the PRA, unless that collection of information displays a currently valid OMB Control Number.

List of Subjects in 50 CFR Part 665

Fisheries, Fishing, Reporting and recordkeeping requirements, Vessel identification, Western and central Pacific.

Dated: January 14, 2010.
James W. Balsiger,
Acting Assistant Administrator for Fisheries, National Marine Fisheries Service.

For the reasons set out in the preamble, 50 CFR part 665 is amended as follows:

PART 665—FISHERIES IN THE WESTERN PACIFIC

1. The authority citation for part 665 continues to read as follows:

Authority: 16 U.S.C. 1801 et seq.

2. In § 665.16, revise paragraphs (a) and (b) to read as follows:

§ 665.16 Vessel identification.

(a) Applicability. Each fishing vessel subject to this part, except those identified in paragraph (e) of this section, must be marked for identification purposes, as follows:

(1) A vessel that is registered for use with a valid permit issued under § 665.801 and used to fish on the high seas within the Convention Area as defined in § 300.211 of this title must be marked in accordance with the requirements at §§ 300.14 and 300.217 of this title.

(2) A vessel that is registered for use with a valid permit issued under § 665.801 of this part and not used to fish on the high seas within the Convention Area must be marked in accordance with either:

(i) Sections 300.14 and 300.217 of this title, or

(ii) Paragraph (b) of this section.

(3) A vessel that is registered for use with a valid permit issued under Subparts B through E of this part must be marked in accordance with paragraph (b) of this section.

(b) Identification. Each vessel subject to this section must be marked as follows:

(1) The vessel's official number must be affixed to the port and starboard sides of the deckhouse or hull, and on an appropriate weather deck, so as to be visible from enforcement vessels and aircraft. Marking must be legible and of a color that contrasts with the background.

(2) For fishing and receiving vessels of 65 ft (19.8 m) LOA or longer, the official number must be displayed in block Arabic numerals at least 18 inches (45.7 cm) in height, except that vessels in precious coral fisheries that are 65 ft (19.8 m) LOA or longer must be marked in block Arabic numerals at least 14 inches (35.6 cm) in height.

(3) For all other vessels, the official number must be displayed in block Arabic numerals at least 10 inches (25.4 cm) in height.

[FR Doc. 2010-1085 Filed 1-20-10; 8:45 am]

BILLING CODE 3510-22-S